DEPARTMENT OF COMMERCE

International Trade Administration

[A-475-703, A-588-707]

Continuation of Antidumping Duty Orders: Granular Polytetrafluoroethylene Resin From Italy and Japan

AGENCY: Import Administration, International Trade Administration, Department of Commerce.

ACTION: Notice of Continuation of Antidumping Orders: Granular Polytetrafluoroethylene Resin from Italy and Japan.

SUMMARY: On December 3, 1999, the Department of Commerce (“the Department”), pursuant to sections 751(c) and 752 of the Tariff Act of 1930, as amended (“the Act”), determined that revocation of the antidumping duty orders on granular polytetrafluoroethylene resin (“PTFE”) from Italy and Japan would likely lead to continuation or recurrence of dumping (64 FR 67865 (December 3, 1999)). On December 27, 1999, the International Trade Commission (“the Commission”), pursuant to section 751(c) of the Act, determined that revocation of the antidumping duty orders on PTFE from Italy and Japan would be likely to lead to continuation or recurrence of material injury to an industry in the United States within a reasonably foreseeable time (64 FR 72362 (December 27, 1999)). Therefore, pursuant to 19 CFR 351.218(f)(4), the Department is publishing this notice of the continuation of the antidumping duty orders on PTFE from Italy and Japan.

EFFECTIVE DATE: January 3, 2000.

FOR FURTHER INFORMATION CONTACT: Darla D. Brown or Melissa G. Skinner, Office of Policy for Import Administration, International Trade Administration, U.S. Department of Commerce, 14th Street and Constitution Ave., NW, Washington, D.C. 20230; telephone: (202) 482-3207 or (202) 482-1560, respectively.

Background

On May 3, 1999, the Department initiated, and the Commission instituted, sunset reviews (64 FR 23596 and 64 FR 23677, respectively) of the antidumping duty orders on PTFE from Italy and Japan pursuant to section 751(c) of the Act. As a result of these reviews, the Department found that revocation of the antidumping duty orders would likely lead to continuation or recurrence of dumping and notified the Commission of the magnitude of the margin likely to prevail were the orders revoked. ¹

¹ See Final Results of Expedited Sunset Reviews: Granular Polytetrafluoroethylene Resin from Italy and Japan, 64 FR 67865 (December 3, 1999).

On December 27, 1999, the Commission determined, pursuant to section 751(c) of the Act, that revocation of the antidumping duty orders on PTFE from Italy and Japan would likely lead to continuation or recurrence of material injury to an industry in the United States within a reasonably foreseeable time. ²

² See Granular Polytetrafluoroethylene Resin from Italy and Japan, 64 FR 72362 (December 27, 1999), and USITC Publication 3260 (December 1999), Granular Polytetrafluoroethylene Resin from Italy and Japan: Investigations Nos. 731-TA-385-386 (Review).

Scope

The merchandise subject to these antidumping duty orders is PTFE from Italy and Japan. The subject merchandise is defined as granular PTFE resin, filled or unfilled. The order explicitly excludes PTFE dispersions in water and PTFE fine powders. Such merchandise is currently classifiable under the Harmonized Tariff Schedule (HTS) item number 3904.61.00. This HTS item number is provided for convenience and customs purposes only. The written description remains dispositive.

There has been one scope ruling with respect to the order on PTFE from Japan in which reprocessed PTFE powder was determined to be outside the scope of the order (57 FR 57420; December 4, 1992). The Department issued a circumvention determination in which it determined that PTFE wet raw polymer exported from Italy to the United States falls within the scope of the order on PTFE from Italy (58 FR 26100; April 30, 1993).

Determination

As a result of the determinations by the Department and the Commission that revocation of these antidumping duty orders would likely lead to continuation or recurrence of dumping and material injury to an industry in the United States, pursuant to section 751(d)(2) of the Act, the Department hereby orders the continuation of the antidumping duty orders on PTFE from Italy and Japan. The Department will instruct the U.S. Customs Service to continue to collect antidumping duty deposits at the rate in effect at the time of entry for all imports of subject merchandise.

Normally, the effective date of continuation of a finding, order, or suspension agreement will be the date of publication in the Federal Register of the Notice of Continuation. As provided in 19 CFR 351.218(f)(4), the Department will issue its determination to continue a finding, order, or suspended investigation not later than seven days after the date of publication in the Federal Register of the Commission's determination concluding the sunset review and immediately thereafter will publish its notice of continuation in the Federal Register. In these instant cases, however, the Department's publication of the Notice of Continuation was delayed. The Department has explicitly indicated that the effective date of continuation of these orders is January 3, 2000, seven days after the publication in the Federal Register of the Commission's determination. As a result, pursuant to section 751(c)(6)(A) of the Act, the Department intends to initiate the next five-year review of these orders not later than December 2004.

Dated: February 1, 2000.
Holly A. Kuga,
Acting Assistant Secretary for Import Administration.

[FR Doc. 00-2837 Filed 2-7-00; 8:45 am]

BILLING CODE 3510-DS-P